DEPARTMENT OF COMMERCE

National Oceanic and Atmospheric Administration

[RTID 0648-XC597]

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a week-long work session, which is open to the public.

DATES: The GMT meeting will be held Monday, January 9, 2023, from 1 p.m., Pacific Time, until business for the day is completed. The GMT will reconvene Tuesday, January 10 through Friday, January 13, 2023, from 8:30 a.m. until business for each day has been completed.

ADDRESSES: The meeting will be held at the Pacific Fishery Management Council Office, Large Conference Room, 7700 NE Ambassador Place, Suite 101, Portland, OR 97220-1384.

The meeting will also be broadcast via webinar. Specific meeting information, including directions on how to join the meeting and system requirements will be provided in the meeting announcement on the Pacific Council's website (see www.pcouncil.org). Please contact Mr. Kris Kleinschmidt (kris.kleinschmidt@noaa.gov) or (503) 820-2412 for technical assistance.

FOR FURTHER INFORMATION CONTACT: Mr. Todd Phillips, Pacific Council; phone: (503) 820-2426.

SUPPLEMENTARY INFORMATION: The primary purpose of this week-long work session is for the GMT to prepare for 2023 Pacific Council meetings. Specific agenda items will include: Amendment 31 groundfish stock definitions, workload and new groundfish management measure prioritization, non-trawl Rockfish Conservation Area management, pot gear marking, and GMT chair/vice chair elections. The GMT may also address groundfish management actions the Pacific Council has indicated on their year-at-a-glance calendar, such as sablefish gear switching and the 2025/26 harvest specifications and management measure process. A detailed agenda will be available on the Pacific Council's website prior to the meeting. The meeting is open to the public, except for a single closed session which will be held from 1 p.m. to 1:30 p.m., on Monday, January 9, 2023.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

A public listening station is physically accessible to people with disabilities. Requests for auxiliary aids should be directed to Mr. Kris Kleinschmidt (kris.kleinschmidt@noaa.gov; (503) 820-2412) at least 10 business days prior to the meeting date.

Authority: 16 U.S.C. 1801 et seq.

Dated: December 7, 2022.
Rey Israel Marquez,
Acting Deputy Director, Office of Sustainable Fisheries, National Marine Fisheries Service.

[FR Doc. 2022-26906 Filed 12-9-22; 8:45 am]

BILLING CODE 3510-22-P